DEPARTMENT OF THE TREASURY

Internal Revenue Service

26 CFR Part 1

[TD 10012]

RIN 1545-BR09

Election To Exclude Certain Unincorporated Organizations Owned by Applicable Entities From Application of the Rules on Partners and Partnerships; Correction

AGENCY: Internal Revenue Service (IRS), Treasury.

ACTION: Final regulations; correction.

SUMMARY: This document contains a correction to TD 10012, which was published in the Federal Register on Wednesday, November 20, 2024. TD 10012 contains final regulations that modify existing regulations to allow certain unincorporated organizations that are owned in whole or in part by applicable entities to be excluded from the application of partnership tax rules.

DATES: This correction is effective on January 19, 2025. For the date of applicability, see § 1.761-2(f).

FOR FURTHER INFORMATION CONTACT: Concerning the final regulations, contact Cameron Williamson at (202) 317-6684 (not a toll-free number).

SUPPLEMENTARY INFORMATION:

Background

The final regulations (TD 10012) that are the subject of this correction are under sections 761(a), 6031(a), 6417(d) and (h), and 7805(a) of the Internal Revenue Code.

Correction of Publication

Accordingly, FR Doc. 2024-26944 (TD 10012), appearing on page 91552 in the Federal Register on Wednesday, November 20, 2024, is corrected as follows:

§ 1.761-2 [Corrected]

1. On page 91562, in the first column, in paragraph (a)(5)(ii), in the third line down from the top of the paragraph, the language “§ 1.6417-1(c)” is corrected to read “§ 1.6417-1(k)”.

Kalle L. Wardlow,
Federal Register Liaison, Publications & Regulations Section, Associate Chief Counsel, (Procedure and Administration).

[FR Doc. 2024-29654 Filed 12-16-24; 8:45 am]

BILLING CODE 4830-01-P